DEPARTMENT OF TRANSPORTATION

Federal Aviation Administration

14 CFR Part 25

[Docket No. NM346; Special Conditions No. 25-335-SC]

Special Conditions: Airbus Model A380-800 Airplane, Reinforced Flightdeck Bulkhead

AGENCY: Federal Aviation Administration (FAA), DOT.

ACTION: Final special conditions.

SUMMARY: These special conditions are issued for the Airbus A380-800 airplane. This airplane will have novel or unusual design features when compared to the state of technology envisioned in the airworthiness standards for transport category airplanes. Many of these novel or unusual design features are associated with the complex systems and the configuration of the airplane, including its full-length double deck.

For these design features, the applicable airworthiness regulations do not contain adequate or appropriate safety standards regarding a reinforced flightdeck bulkhead. These special conditions contain the additional safety standards that the Administrator considers necessary to establish an appropriate level of safety for a reinforced flightdeck bulkhead and are equivalent to the standards established by existing airworthiness regulations for the flightdeck door. Additional special conditions will be issued for other novel or unusual design features of the Airbus Model A380-800 airplane.

Effective Date: The effective date of these special conditions is October 18, 2006.

FOR FURTHER INFORMATION CONTACT: Holly Thorson, FAA, International Branch, ANM-116, Transport Airplane Directorate, Aircraft Certification Service, 1601 Lind Avenue, SW., Renton, Washington 98057-3356; telephone (425) 227-1357; facsimile (425) 227-1149.

SUPPLEMENTARY INFORMATION:

Background

Airbus applied for FAA certification/validation of the provisionally designated Model A3XX-100 in its letter AI/L 810.0223/98, dated August 12, 1998, to the FAA. Application for certification by the Joint Aviation Authorities (JAA) of Europe had been made on January 16, 1998, reference AI/L 810.0019/98. In its letter to the FAA, Airbus requested an extension to the 5-year period for type certification in accordance with 14 CFR 21.17(c).

The request was for an extension to a 7-year period, using the date of the initial application letter to the JAA as the reference date. The reason given by Airbus for the request for extension is related to the technical challenges, complexity, and the number of new and novel features on the airplane. On November 12, 1998, the Manager, Aircraft Engineering Division, AIR-100, granted Airbus' request for the 7-year period, based on the date of application to the JAA.

In its letter AI/LE-A 828.0040/99 Issue 3, dated July 20, 2001, Airbus stated that its target date for type certification of the Model A380-800 had been moved from May 2005, to January 2006, to match the delivery date of the first production airplane. In a subsequent letter (AI/L 810.0223/98 issue 3, dated January 27, 2006), Airbus stated that its target date for type certification is October 2, 2006. In accordance with 14 CFR 21.17(d)(2), Airbus chose a new application date of December 20, 1999, and requested that the 7-year certification period which had already been approved be continued. The FAA has reviewed the part 25 certification basis for the Model A380-800 airplane, and no changes are required based on the new application date.

The Model A380-800 airplane will be an all-new, four-engine jet transport airplane with a full double-deck, two-aisle cabin. The maximum takeoff weight will be 1.235 million pounds with a typical three-class layout of 555 passengers.

Type Certification Basis

Under the provisions of 14 CFR 21.17, Airbus must show that the Model A380-800 airplane meets the applicable provisions of 14 CFR part 25, as amended by Amendments 25-1 through 25-98. If the Administrator finds that the applicable airworthiness regulations do not contain adequate or appropriate safety standards for the Airbus A380-800 airplane because of novel or unusual design features, special conditions are prescribed under the provisions of 14 CFR 21.16.

In addition to the applicable airworthiness regulations and special conditions, the Airbus Model A380-800 airplane must comply with the fuel vent and exhaust emission requirements of 14 CFR part 34 and the noise certification requirements of 14 CFR part 36. In addition, the FAA must issue a finding of regulatory adequacy pursuant to section 611 of Public Law 93-574, the “Noise Control Act of 1972.”

Special conditions, as defined in 14 CFR 11.19, are issued in accordance with 14 CFR 11.38 and become part of the type certification basis in accordance with 14 CFR 21.17(a)(2).

Special conditions are initially applicable to the model for which they are issued. Should the type certificate for that model be amended later to include any other model that incorporates the same novel or unusual design feature, the special conditions would also apply to the other model under the provisions of 14 CFR 21.101.

Discussion of Novel or Unusual Design Features

The A380 will have a flightdeck bulkhead which is reinforced to resist intrusion and ballistic penetration. On January 15, 2002, the FAA promulgated 14 CFR 25.795(a), which specifies that the flightdeck door installation be designed to resist forcible intrusion by unauthorized persons or penetration by small arms fire and fragmentation devices. The regulation was limited to the flightdeck door to expedite a rapid retrofit of existing airplanes which are required by operating rules to have a flightdeck door.

The FAA intends that the flightdeck bulkhead—and any other accessible barrier separating the flightcrew compartment from occupied areas—also be designed to resist intrusion or penetration. We are in the process of rulemaking to amend § 25.795(a) to make that and other changes pertaining to security.

Meanwhile, the FAA is issuing special conditions for the Airbus Model A380-800 regarding design of the reinforced flightdeck bulkhead separating the flightcrew compartment from occupied areas. These special conditions require that the flightdeck bulkhead meet the same standards as those specified in § 25.795(a) for flightdeck doors. For the A380, the bulkhead may be comprised of components, such as lavatory and crew rest walls; these components are covered by these special conditions.

Discussion of Comments

A notice of proposed special conditions (NPSC), pertaining to a reinforced flightdeck bulkhead for the Airbus Model A380-800 airplane, was published in the Federal Register on April 11, 2006. (The Docket No. was NM317, and the Notice No. was 25-05-12-SC. Subsequently, a “Notice of proposed special conditions, correction” was published in the Federal Register to correct the docket no. and the notice no., because they had previously been used for a different NPSC. The corrected NPSC has Docket No. NM346 and Notice No. 25-06-05-SC.)

The Boeing Company was the only commenter. Since the comments addressed security matters as well as technical matters, Boeing asked that they not be made public “until it can be determined if they contain ‘sensitive security information.’” Accordingly, the discussion which follows does not contain information about the reinforced flightdeck bulkhead which may constitute “sensitive security information.”

The most significant comment asked that the FAA either withdraw the special conditions or provide a better justification for them. The Boeing Company said that the special conditions do not clearly define “* * *what about the A380 makes its bulkhead novel and unusual with respect to any other airplane that has been type certificated to date.”

The FAA does not agree with this comment. We did not propose special conditions because of the size or the double-deck configuration of the A380 airplane. We proposed them because the Airbus A380-800 airplane will have a flightdeck bulkhead which is reinforced to resist intrusion and ballistic penetration. A reinforced flightdeck bulkhead is a novel or unusual design feature. Accordingly, we proposed special conditions to provide performance standards that would maintain the integrity of the bulkhead and ensure that the bulkhead continues to meet those standards if it is modified in the future.

Other comments of the Boeing Company dealt with terminology and technical aspects of the special conditions. These comments pertained to the following:

• Use of existing guidance material,

• Whether the standards proposed for the reinforced flightdeck bulkhead are the “same” as those for the reinforced flightdeck door or simply “equivalent” to them,

• What constitutes an accessible handhold,

• Use of the term “passenger accessible compartments” rather than “occupied areas,” because the latter term doesn't make a distinction between areas occupied by passengers and those occupied by crew, and

• Which bulkhead components require protection from intrusion and which require protection from ballistic penetration.

These are all valid matters to be considered as part of the certification process, but the answers will be specific to the design of the Airbus A380-800 airplane and do not require revision of the terms of the proposed special conditions. Accordingly, the FAA has made no change to the special conditions, as proposed.

Applicability

As discussed above, these special conditions are applicable to the Airbus A380-800 airplane. Should Airbus apply at a later date for a change to the type certificate to include another model incorporating the same novel or unusual design features, these special conditions would apply to that model as well under the provisions of § 21.101.

Conclusion

This action affects only certain novel or unusual design features of the Airbus A380-800 airplane. It is not a rule of general applicability.

List of Subjects in 14 CFR Part 25

Aircraft, Aviation safety, Reporting and recordkeeping requirements.

The authority citation for these special conditions is as follows:

Authority: 49 U.S.C. 106(g), 40113, 44701, 44702, 44704.

The Special Conditions

Accordingly, pursuant to the authority delegated to me by the Administrator, the following special conditions are issued as part of the type certification basis for the Airbus A380-800 airplane.

In addition to the requirements of 14 CFR 25.795(a) governing protection of the flightdeck door, the following special conditions apply:

The bulkhead—including components that comprise the bulkhead and separate the flightcrew compartment from occupied areas—must be designed to meet the following standards:

• It must resist forcible intrusion by unauthorized persons and be capable of withstanding impacts of 300 Joules (221.3 foot-pounds) at critical locations as well as a 1113 Newton (250 pound) constant tensile load on accessible handholds, including the doorknob or handle.

• It must resist penetration by small arms fire and fragmentation devices to a level equivalent to level IIIa of the National Institute of Justice Standard (NIJ) 0101.04.

Issued in Renton, Washington, on October 18, 2006.
Jeffrey Duven,
Acting Manager, Transport Airplane Directorate, Aircraft Certification Service.

[FR Doc. E6-17902 Filed 10-25-06; 8:45 am]

BILLING CODE 4910-13-P